FEDERAL RETIREMENT THRIFT INVESTMENT BOARD

Employee Thrift Advisory Council; Open Meeting

In accordance with section 10(a)(2) of the Federal Advisory Committee Act (Pub. L. 92-463), a notice is hereby given of the following committee meeting:

Name: Employee Thrift Advisory Council.

Time: 2 p.m.

Date: March 7, 2006.

Place: 4th Floor Conference Room, Federal Retirement Thrift Investment Board, 1250 H Street, NW., Washington, DC.

Status: Open.

Matters To Be Considered:

1. Approval of the minutes of the October 14, 2005, meeting.

2. Report of the Executive Director on Thrift Savings Plan status.

3. L Funds.

4. Investment consultant.

5. Legislation.

6. New business.

For Further Information Contact: Thomas K. Emswiler, Acting Committee Management Officer, on (202) 942-1660.

Dated: February 23, 2006.
Thomas K. Emswiler,
Acting General Counsel, Federal Retirement Thrift Investment Board.

[FR Doc. E6-2812 Filed 2-28-06; 8:45 am]

BILLING CODE 6760-01-P